DEPARTMENT OF HEALTH AND HUMAN SERVICES

Administration for Children and Families

[Program Announcement No. OCS 2001-08]

Fiscal Year 2001 Training, Technical Assistance and Capacity-Building Program; Availability of Funds and Request for Applications

AGENCY: Office of Community Services (OCS), ACF, DHHS.

ACTION: Notice; correction.

SUMMARY: This notice corrects the announcement of Fiscal Year 2001 Training, Technical Assistance and Capacity-Building Program; Availability of Funds and Request for Applications published on July 2, 2001 (66 FR 34996).

FOR FURTHER INFORMATION CONTACT: Margaret Washnitzer, Director of State Assistance, Office of Community Services, Administration for Children and Families, 370 L'Enfant Promenade, SW., Washington, DC 20447 (202) 401-9343.

Correction

In our notice issued July 2, 2001 (66 FR 34996), make the following correction. On page 34998 in the first column, the first full paragraph, in the fifth line after the word, “follows”, remove the four priority and subpriority areas and all the language therein, and add;

Priority Area 1.0: Training and Technical Assistance for ROMA Implementation

Sub-Priority Areas

1.1 National Academy (NA)

1.2 Leadership Development (LD)

1.3 Train-the-Trainers (TT)

1.4 Best Practices (BP)

1.5 Impact Information (IF)

1.6 Special ROMA Technical Assistance (RM)

Priority Area 2.0: CAA Capacity Building

Sub-Priority Areas

2.1 National Training (CB)

2.2 Collection, Analysis and Dissemination of Information On the CSBG Activities (IS)

2.3 Local Capacity Building (CP)

2.4 Strengthening CAA Capacity to Address Legal Issues (LF)

2.5 Addressing Urban Needs (UI)

2.6 State CAA Association Capacity Building (EQ)

Priority Area 3.0: Strengthening At-Risk Agencies

Sub-Priority Areas

3.1 Special State Technical Assistance

3.2 National Peer-to-Peer Assistance

Priority Area 4.0: Information Sharing

Sub-Priority Area

4.1 Information Sharing Tools

Dated: July 7, 2001.
Clarence H. Carter,
Director, Office of Community Services.

[FR Doc. 01-17440 Filed 7-11-01; 8:45 am]

BILLING CODE 4184-01-M